DEPARTMENT OF THE INTERIOR

National Park Service

[NPS-WASO-NAGPRA-NPS0035726; PPWOCRADN0-PCU00RP14.R50000]

Notice of Inventory Completion: Rochester Museum & Science Center, Rochester, NY

AGENCY: National Park Service, Interior.

ACTION: Notice.

SUMMARY: In accordance with the Native American Graves Protection and Repatriation Act (NAGPRA), the Rochester Museum & Science Center (RMSC) has completed an inventory of human remains and associated funerary objects and has determined that there is a cultural affiliation between the human remains and associated funerary objects and Indian Tribes or Native Hawaiian organizations in this notice. The human remains and associated funerary objects were removed from Chenango, Jefferson, Madison, and Oneida Counties, NY.

DATES: Repatriation of the human remains and associated funerary objects in this notice may occur on or after May 29, 2023.

ADDRESSES: Kathryn Murano Santos, Rochester Museum & Science Center, 657 East Avenue, Rochester, NY 14607, telephone (585) 697-1929, email kmurano@rmsc.org.

SUPPLEMENTARY INFORMATION: This notice is published as part of the National Park Service's administrative responsibilities under NAGPRA. The determinations in this notice are the sole responsibility of the Rochester Museum & Science Center. The National Park Service is not responsible for the determinations in this notice. Additional information on the determinations in this notice, including the results of consultation, can be found in the inventory or related records held by the Rochester Museum & Science Center.

Description

Human remains representing, at minimum, two individuals were removed from the Partridge Site (Una 001) in Chenango County, NY. These human remains were excavated by the RMSC in 1935. No known individuals were identified. No associated funerary objects are present.

Human remains representing, at minimum, two individuals were removed from the Hunter Site (Hmd 002) in Jefferson County, NY. The human remains of one individual were collected near the outlet of Red Lake by Earl Abbott and donated to the RMSC in 1946. The human remains of a second individual were removed by an unknown individual on an unknown date. No known individuals were identified. No associated funerary objects are present.

Human remains representing, at minimum, one individual were removed from the Muskalonge Lake Site (Hmd 001) in Jefferson County, NY. These human remains were excavated by W.A. Ritchie for the RMSC sometime between 1932 and 1933. No known individual was identified. No associated funerary objects are present.

Human remains representing, at minimum, two individuals were removed from the town of Cazenovia in Madison County, NY. These human remains were acquired by an unknown collector around 1919, and they were purchased by the RMSC from Alvin H. Dewey sometime between 1928 and 1929. No known individuals were identified. The one associated funerary object is a necklace with animal and human teeth. It is currently missing.

Human remains representing, at minimum, one individual were removed from the west bank of Oneida Creek in Madison County, NY. These human remains were collected by Henry Wemple of Vernon Center in 1958, and they were donated to the RMSC in 1961. No known individual was identified. The one associated funerary object is an animal bone.

Human remains representing, at minimum, four individuals were removed from the Sherril Site in Oneida County, NY. These human remains were collected by Herbert Bigford, and they were then donated to the RMSC in 1941. No known individuals were identified. No associated funerary objects are present.

Human remains representing, at minimum, two individuals were removed from Teelins Site in Oneida County, NY. These human remains were collected by Gilbert Hagerty, and they were donated to the RMSC in 1979. No known individuals were identified. Of the nine associated funerary objects, eight are present and accounted for in the RMSC collections and one object is currently missing. The eight present associated funerary objects are one flint chunk; one lot of faunal remains; three lots of body sherds; two clam shells; and one broken projectile point. The currently missing associated funerary object is one lot of soil.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the Rochester Museum & Science Center has determined that:

• The human remains described in this notice represent the physical remains of 14 individuals of Native American ancestry.

• The 11 objects described in this notice are reasonably believed to have been placed with or near individual human remains at the time of death or later as part of the death rite or ceremony.

• There is a relationship of shared group identity that can be reasonably traced between the human remains and associated funerary objects described in this notice and the Oneida Indian Nation and the Oneida Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 29, 2023. If competing requests for repatriation are received, the Rochester Museum & Science Center must determine the most appropriate requestor prior to repatriation. Requests for joint repatriation of the human remains and associated funerary objects are considered a single request and not competing requests. The Rochester Museum & Science Center is responsible for sending a copy of this notice to the Indian Tribes identified in this notice.

Authority: Native American Graves Protection and Repatriation Act, 25 U.S.C. 3003, and the implementing regulations, 43 CFR 10.9, 10.10, and 10.14.

Dated: April 19, 2023.
Melanie O'Brien,
Manager, National NAGPRA Program.

[FR Doc. 2023-08892 Filed 4-26-23; 8:45 am]

BILLING CODE 4312-52-P